DEPARTMENT OF ENERGY

Federal Energy Regulatory Commission

Combined Notice of Filings #1

Take notice that the Commission received the following electric corporate filings:

Docket Numbers: EC22-24-000.

Applicants: GridLiance High Plains LLC.

Description: Response to December 10, 2021 Deficiency Letter of GridLiance High Plains LLC.

Filed Date: 3/9/22.

Accession Number: 20220309-5041.

Comment Date: 5 p.m. ET 3/30/22.

Docket Numbers: EC22-48-000.

Applicants: Imperial Valley Solar 2, LLC.

Description: Application for Authorization Under Section 203 of the Federal Power Act of Imperial Valley Solar 2, LLC.

Filed Date: 3/22/22.

Accession Number: 20220322-5043.

Comment Date: 5 p.m. ET 4/12/22.

Take notice that the Commission received the following exempt wholesale generator filings:

Docket Numbers: EG22-70-000.

Applicants: Ledyard Windpower, LLC.

Description: Notice of Self Certification of Exempt Wholesale Generator Status of Ledyard Windpower, LLC.

Filed Date: 3/21/22.

Accession Number: 20220321-5198.

Comment Date: 5 p.m. ET 4/11/22.

Take notice that the Commission received the following electric rate filings:

Docket Numbers: ER21-1339-003.

Applicants: California Ridge Wind Energy LLC.

Description: Compliance filing: Compliance Filing Under Docket ER21-1339 to be effective 6/1/2021.

Filed Date: 3/22/22.

Accession Number: 20220322-5053.

Comment Date: 5 p.m. ET 4/12/22.

Docket Numbers: ER21-1365-002.

Applicants: Fowler Ridge IV Wind Farm LLC.

Description: Compliance filing: Compliance Filing Under Docket ER21-1365 to be effective 3/13/2021.

Filed Date: 3/22/22.

Accession Number: 20220322-5054.

Comment Date: 5 p.m. ET 4/12/22.

Docket Numbers: ER22-210-001.

Applicants: ENGIE 2020 ProjectCo-NH1 LLC.

Description: Refund Report: Refund Report to be effective N/A.

Filed Date: 3/22/22.

Accession Number: 20220322-5048.

Comment Date: 5 p.m. ET 4/12/22.

Docket Numbers: ER22-1208-000; ER21-1294-000; ER22-671-000.

Applicants: SunZia Transmission, LLC, Pattern Energy Group LP, SunZia Transmission, LLC, SunZia Transmission, LLC.

Description: Supplement to SunZia Transmission, LLC Request for Negotiated Rate Authority and Filing of a Post-Selection Open Solicitation Report.

Filed Date: 3/21/22.

Accession Number: 20220321-5205.

Comment Date: 5 p.m. ET 3/31/22.

Docket Numbers: ER22-1400-000.

Applicants: Jersey Central Power & Light Company, Pennsylvania Electric Company.

Description: Jersey Central Power & Light and Pennsylvania Electric Company Submit a Notice of Cancellation of the Wheeling and Supplemental Power Agreement with Borough of Butler.

Filed Date: 3/15/22.

Accession Number: 20220315-5303.

Comment Date: 5 p.m. ET 4/5/22.

Docket Numbers: ER22-1415-000.

Applicants: Appalachian Power Company.

Description: § 205(d) Rate Filing: MBR AEP Operating Companies Market Based Rates Tariff to be effective 12/31/9998.

Filed Date: 3/21/22.

Accession Number: 20220321-5147.

Comment Date: 5 p.m. ET 4/11/22.

Docket Numbers: ER22-1415-001.

Applicants: Appalachian Power Company.

Description: Tariff Amendment: MBR AEP Operating Companies Market Based Rates Tariff to be effective 12/31/9998.

Filed Date: 3/22/22.

Accession Number: 20220322-5049.

Comment Date: 5 p.m. ET 4/12/22.

Docket Numbers: ER22-1416-000.

Applicants: Southern California Edison Company.

Description: § 205(d) Rate Filing: Athos Power Plant LA Exec (Q1405) TOT849 SA280 to be effective 3/23/2022.

Filed Date: 3/22/22.

Accession Number: 20220322-5003.

Comment Date: 5 p.m. ET 4/12/22.

Docket Numbers: ER22-1417-000.

Applicants: ISO New England Inc.

Description: ISO New England Inc., submits the Forward Capacity Auction Results Filing for the Sixteenth Forward Capacity Auction.

Filed Date: 3/21/22.

Accession Number: 20220321-5185.

Comment Date: 5 p.m. ET 5/5/22.

Docket Numbers: ER22-1418-000.

Applicants: Trailstone Renewables, LLC.

Description: Baseline eTariff Filing: Baseline new to be effective 3/23/2022.

Filed Date: 3/22/22.

Accession Number: 20220322-5028.

Comment Date: 5 p.m. ET 4/12/22.

Docket Numbers: ER22-1419-000.

Applicants: Jersey Central Power & Light Company, Pennsylvania Electric Company.

Description: Jersey Central Power & Light and Pennsylvania Electric Company Submit A Notice of Cancellation of the Wheeling and Supplemental Power Agreement among JCPL, Penelec and the Borough of Seaside Heights, New Jersey, dated September 15, 1993.

Filed Date: 3/21/22.

Accession Number: 20220321-5200.

Comment Date: 5 p.m. ET 4/11/22.

Docket Numbers: ER22-1420-000.

Applicants: PJM Interconnection, L.L.C.

Description: § 205(d) Rate Filing: OATT & OA revisions to clarify rules for participation of Hybrid Resources to be effective 6/1/2022.

Filed Date: 3/22/22.

Accession Number: 20220322-5047.

Comment Date: 5 p.m. ET 4/12/22.

Docket Numbers: ER22-1420-001.

Applicants: PJM Interconnection, L.L.C.

Description: Tariff Amendment: Amendment to revisions for participation of Hybrid Resources in ER22-1420 to be effective 12/31/9998.

Filed Date: 3/22/22.

Accession Number: 20220322-5058.

Comment Date: 5 p.m. ET 4/12/22.

Docket Numbers: ER22-1421-000.

Applicants: Northern States Power Company, a Minnesota corporation.

Description: § 205(d) Rate Filing: 2022-03-22 NSP-CHAK-West Creek-FSA-707-0.0.0 to be effective 3/23/2022.

Filed Date: 3/22/22.

Accession Number: 20220322-5063.

Comment Date: 5 p.m. ET 4/12/22.

Docket Numbers: ER22-1422-000.

Applicants: Midcontinent Independent System Operator, Inc., MidAmerican Energy Company.

Description: § 205(d) Rate Filing: Midcontinent Independent System Operator, Inc. submits tariff filing per 35.13(a)(2)(iii: 2022-03-22_MidAmerican Depreciation Rates to be effective 6/1/2022.

Filed Date: 3/22/22.

Accession Number: 20220322-5075.

Comment Date: 5 p.m. ET 4/12/22.

Docket Numbers: ER22-1423-000.

Applicants: Appalachian Power Company.

Description: § 205(d) Rate Filing: OATT—Kentucky Power Removal to be effective 12/31/9998.

Filed Date: 3/22/22.

Accession Number: 20220322-5080.

Comment Date: 5 p.m. ET 4/12/22.

Docket Numbers: ER22-1424-000.

Applicants: Duke Energy Florida, LLC.

Description: § 205(d) Rate Filing: DEF-Request for Limited Auth—MBR to be effective 5/22/2022.

Filed Date: 3/22/22.

Accession Number: 20220322-5108.

Comment Date: 5 p.m. ET 4/12/22.

Docket Numbers: ER22-1425-000.

Applicants: Northern Indiana Public Service Company LLC.

Description: § 205(d) Rate Filing: Supplement to WVPA IA to Remove Delivery Point to be effective 5/31/2022.

Filed Date: 3/22/22.

Accession Number: 20220322-5121.

Comment Date: 5 p.m. ET 4/12/22.

Docket Numbers: ER22-1426-000.

Applicants: Appalachian Power Company.

Description: Tariff Amendment: APCO-Cancellation of Tariffs 204,301,305 to be effective 5/22/2022.

Filed Date: 3/22/22.

Accession Number: 20220322-5138.

Comment Date: 5 p.m. ET 4/12/22.

Docket Numbers: ER22-1427-000.

Applicants: Northern Indiana Public Service Company LLC.

Description: § 205(d) Rate Filing: Supplement to WVPA IA to Remove Delivery Point to be effective 3/31/2022.

Filed Date: 3/22/22.

Accession Number: 20220322-5139.

Comment Date: 5 p.m. ET 4/12/22.

Docket Numbers: ER22-1428-000.

Applicants: PJM Interconnection, L.L.C.

Description: Tariff Amendment: Notice of Cancellation of WMPA SA No. 6273; Queue AG2-422 to be effective 4/18/2022.

Filed Date: 3/22/22.

Accession Number: 20220322-5158.

Comment Date: 5 p.m. ET 4/12/22.

Docket Numbers: ER22-1429-000.

Applicants: Appalachian Power Company.

Description: § 205(d) Rate Filing: RS 34—AEP East Transmission Agreement to be effective 12/31/9998.

Filed Date: 3/22/22.

Accession Number: 20220322-5163.

Comment Date: 5 p.m. ET 4/12/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 22, 2022.
Debbie-Anne A. Reese,
Deputy Secretary.

[FR Doc. 2022-06500 Filed 3-28-22; 8:45 am]

BILLING CODE 6717-01-P